DEPARTMENT OF HEALTH AND HUMAN SERVICES

Food and Drug Administration

21 CFR Parts 16, 610, 640, 812, 814, 822, and 860

[Docket No. FDA-2008-N-0423]

FDA Regulations; Technical Amendment; Correction

AGENCY: Food and Drug Administration, HHS.

ACTION: Final rule; correction.

SUMMARY: The Food and Drug Administration (FDA) is correcting a final rule that appeared in the Federal Register of Monday, August 25, 2008 (73 FR 49941). The final rule made technical amendments to several FDA regulations. The document was published with two inaccurate citations in the first paragraph of the Background Section under Supplementary Information. This document corrects that error.

DATES: September 19, 2008.

FOR FURTHER INFORMATION CONTACT: Denise Sánchez, Center for Biologics Evaluation and Research (HFM-17), Food and Drug Administration, 1401 Rockville Pike, suite 200N, Rockville, MD 20852-1448, 301-827-6210.

SUPPLEMENTARY INFORMATION: In FR Doc. E8-19654, appearing on page 49941 in the Federal Register of Monday, August 25, 2008 (73 FR 49941), the following correction is made:

On page 49941, in the first paragraph of the Background section under Supplementary Information, “21 CFR 610.51” is corrected to read as “21 CFR 610.53” and “21 CFR 640.53” is corrected to read as “21 CFR 640.51”.

Dated: September 15, 2008.
Jeffrey Shuren,
Associate Commissioner for Policy and Planning.

[FR Doc. E8-21966 Filed 9-18-08; 8:45 am]

BILLING CODE 4160-01-S